DEPARTMENT OF COMMERCE

International Trade Administration

[A-549-502]

Circular Welded Carbon Steel Pipes and Tubes From Thailand: Final Results of Antidumping Duty Administrative Review; 2011-2012

AGENCY: Enforcement and Compliance, formerly Import Administration, International Trade Administration, Department of Commerce.

SUMMARY: On April 9, 2013, the Department of Commerce (the Department) published the preliminary results of the administrative review of the antidumping duty order on circular welded carbon steel pipes and tubes from Thailand. This review covers two producers and/or exporters of the subject merchandise, Saha Thai Steel Pipe (Public) Company, Ltd. (Saha Thai), and Pacific Pipe Company Limited (Pacific Pipe). The period of review (POR) is March 1, 2011, through February 29, 2012. The Department received comments from interested parties. For the final results we continue to find that Saha Thai has not sold subject merchandise at less than normal value (NV), and that Pacific Pipe had no shipments of subject merchandise during the POR.

DATES: Effective Date: October 31, 2013.

FOR FURTHER INFORMATION CONTACT: Jun Jack Zhao or Mark Hoadley, AD/CVD Operations, Office 6, Enforcement and Compliance, International Trade Administration, U.S. Department of Commerce, 14th Street and Constitution Avenue NW., Washington, DC 20230; telephone: (202) 482-1396 or (202) 482-3148, respectively.

SUPPLEMENTARY INFORMATION:

Background

On April 9, 2013, the Department published the preliminary results of the administrative review of the antidumping duty order on circular welded carbon steel pipes and tubes from Thailand.¹ We invited interested parties to comment on the Preliminary Results. Saha Thai, Wheatland Tube Company, and United States Steel Corporation each submitted case brief on May 9, 2013, and submitted rebuttal briefs on May 21, 2013,² with respect to the Preliminary Results.

¹ See Circular Welded Carbon Steel Pipes and Tubes from Thailand: Preliminary Results of Antidumping Duty Administrative Review; 2011-2012, 78 FR 21105 (April 9, 2013) (Preliminary Results).

² Wheatland Tube Company resubmitted its rebuttal brief on July 10, 2013, with certain bracketing of information removed pursuant to the instructions of the Department.

As explained in the memorandum from the Assistant Secretary for Enforcement and Compliance, the Department has exercised its discretion to toll deadlines for the duration of the closure of the Federal Government from October 1, through October 16, 2013.³ Therefore, all deadlines in this segment of the proceeding have been extended by 16 days. The revised deadline for the final results of this review is now October 23, 2013.

³ See Memorandum for the Record from Paul Piquado, Assistant Secretary for Enforcement and Compliance, “Deadlines Affected by the Shutdown of the Federal Government” (October 18, 2013).

The Department has conducted this administrative review in accordance with section 751(a) of the Tariff Act of 1930, as amended (the Act).

Scope of the Order

The products covered by the antidumping order are certain circular welded carbon steel pipes and tubes from Thailand.⁴ The merchandise is classifiable under the Harmonized Tariff Schedule of the United States (HTSUS) item numbers 7306.30.1000, 7306.30.5025, 7306.30.5032, 7306.30.5040, 7306.30.5055, 7306.30.5085 and 7306.30.5090. Although the HTSUS subheadings are provided for convenience and purposes of U.S. Customs and Border Protection (CBP), the written description of the merchandise subject to the order is dispositive. A full description of the scope of the order is contained in the Issues and Decision Memorandum, which is hereby adopted by this notice.

⁴ See Memorandum to Paul Piquado, Assistant Secretary for Enforcement and Compliance, from Christian Marsh, Deputy Assistant Secretary for Antidumping and Countervailing Duty Operations, entitled “Issues and Decision Memorandum for the Final Results of Antidumping Duty Administrative Review of Circular Welded Carbon Steel Pipes and Tubes from Thailand: 2011-2012 Administrative Review,” dated concurrently with this notice (Issues and Decision Memorandum), for a complete description of the scope of the order.

Final Determination of No Shipments

For the final results of this review, we continue to find that Pacific Pipe had no shipments during the POR.⁵

⁵ See Preliminary Results, 78 FR at 21105.

Analysis of Comments Received

All issues raised in the case and rebuttal briefs by parties to this review are addressed in the Issues and Decision Memorandum. A list of issues that parties raised and to which we respond in the Issues and Decision Memorandum is attached to this notice as an Appendix. The Issues and Decision Memorandum is a public document and is on file electronically via Enforcement and Compliance's Antidumping and Countervailing Duty Centralized Electronic Service System (IA ACCESS). IA ACCESS is available to registered users at http://iaaccess.trade.gov, and is available to all parties in the Central Records Unit, room 7046 of the main Department of Commerce building. In addition, a complete version of the Issues and Decision Memorandum can be accessed directly on the Internet at http://trade.gov/enforcement/. The signed Issues and Decision Memorandum and the electronic versions of the Issues and Decision Memorandum are identical in content.

Changes Since the Preliminary Results

Based on a review of the record as well as comments received from parties regarding the Preliminary Results, we made two revisions to Saha Thai's margin calculation for the final results. We revised the differential pricing analysis to define purchaser based on Saha Thai's reported consolidated customer code in the U.S. market, and we revised Saha Thai's general and administrative expenses.⁶

⁶ See Saha Thai's Final Analysis Memorandum and Memorandum to the File, entitled “Final Results of the Administrative Review of Circular Welded Carbon Steel Pipes and Tubes from Thailand: Analysis Memorandum for Saha Thai Steel Pipe (Public) Company, Ltd.,” dated concurrently with this notice.

Final Results of Review

As a result of our review, we determine the following weighted-average dumping margins exist for the period March 1, 2011, through February 29, 2012.

Producer/exporter | Weighted-average dumping margin (percent)
Saha Thai Steel Pipe (Public) Company, Ltd. | 0.00
Pacific Pipe Company Limited | *
* No shipments or sales subject to this review. The firm has an individual rate from the last segment of the proceeding in which the firm had shipments or sales.

Assessment Rates

In accordance with 19 CFR 351.106(c)(2) and the Final Modification for Reviews,⁷ the Department will instruct U.S. Customs and Border Protection (CBP) to liquidate appropriate entries for Saha Thai without regard to antidumping duties.

⁷ See Antidumping Proceedings: Calculation of the Weighted-Average Dumping Margin and Assessment Rate in Certain Antidumping Proceedings: Final Modification, 77 FR 8101, 8102 (February 14, 2012) (Final Modification for Reviews).

The Department clarified its “automatic assessment” regulation on May 6, 2003.⁸ This clarification applies to entries of subject merchandise during the POR produced by Saha Thai for which it did not know its merchandise was destined for the United States. In such instances, we will instruct CBP to liquidate unreviewed entries at the all-others rate if there is no rate for the intermediate company(ies) involved in the transaction.

⁸ For a full discussion of this clarification, see Antidumping and Countervailing Duty Proceedings: Assessment of Antidumping Duties, 68 FR 23954 (May 6, 2003) (Assessment Policy Notice).

Consistent with the Assessment Policy Notice, because we continue to find that Pacific Pipe had no shipments of subject merchandise to the United States, we will instruct CBP to liquidate all applicable entries of merchandise produced by Pacific Pipe and exported by other parties at the rate for the intermediate reseller, if available, or at the all-others rate.

We intend to issue instructions to CBP 15 days after publication of the final results of this review.

Cash Deposit Requirements

The following deposit requirements will be effective upon publication of the notice of final results of administrative review for all shipments of circular welded carbon steel pipes and tubes from Thailand entered, or withdrawn from warehouse, for consumption on or after the date of publication as provided by section 751(a)(2) of the Act: (1) The cash deposit rate for Saha Thai will be 0.00 percent, the weighted-average dumping margin established in the final results of this administrative review; (2) for Pacific Pipe and previously reviewed or investigated companies not listed above, the cash deposit rate will continue to be the company-specific rate published for the most recently completed segment of this proceeding; (3) if the exporter is not a firm covered in this review, a prior review, or the less than fair value (LTFV) investigation, but the manufacturer is, then the cash deposit rate will be the rate established for the most recently completed segment of this proceeding for the manufacturer of the merchandise; and (4) if neither the exporter nor the manufacturer is a firm covered in this or any previous review or the LTFV investigation, then the cash deposit rate will be the “all-others” rate of 15.67 percent established in the LTFV investigation.⁹ These deposit rates, when imposed, shall remain in effect until further notice.

⁹ See Antidumping Duty Order: Circular Welded Carbon Steel Pipes and Tubes from Thailand, 51 FR 8341 (March 11, 1986).

Notifications

This notice serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

This notice also serves as a reminder to parties subject to administrative protective order (APO) of their responsibility concerning the destruction of proprietary information disclosed under APO in accordance with 19 CFR 351.305(a)(3). Timely written notification of the return or destruction of APO materials or conversion to judicial protective order is hereby requested. Failure to comply with the regulations and terms of an APO is a sanctionable violation.

The Department is issuing and publishing these final results of administrative review in accordance with sections 751(a)(1) and 777(i)(1) of the Act.

Dated: October 23, 2013.
Paul Piquado,
Assistant Secretary for Enforcement and Compliance.

Appendix

List of Topics Discussed in the Issues and Decision Memorandum

Comment 1: Issues with the Differential Pricing Analysis

Comment 2: Withdrawal of the Targeted Dumping Regulation

Comment 3: Use of an Alternative Comparison Method in Administrative Reviews

Comment 4: Denial of Offsets with the Average-to-Transaction Comparison Method

Comment 5: Freight Revenue Cap

Comment 6: Date of Sale for Saha Thai's U.S. Sales

Comment 7: Saha Thai's Grade Distinctions

Comment 8: “Schedule” as a Model Matching Characteristic

Comment 9: Warehouse Costs Incurred on Painted Products

Comment 10: Treatment of Non-Prime Products in Calculating the Cost of Production

Comment 11: Steel Scrap Offset

Comment 12: General and Administrative Expense Ratio (Warehouse Rental Income and Expense)

Comment 13: Zinc Scrap Offset

[FR Doc. 2013-25808 Filed 10-30-13; 8:45 am]

BILLING CODE 3510-DS-P